DEPARTMENT OF TRANSPORTATION

Maritime Administration

Agency Recordkeeping/Reporting Requirements Under Emergency Review by the Office of Management and Budget (OMB)

The Department of Transportation (DOT), Maritime Administration (MARAD) has submitted the following public information collection request to the Office of Management and Budget (OMB) for emergency review and clearance in accordance with the Paperwork Reduction Act of 1995 (PRA) (P.L. 104-13, 44 U.S.C. Chapter 35). OMB approval has been requested by June 12, 2000. A copy of this information collection request, with applicable supporting documentation, may be obtained by contacting Raymond R. Barberesi, Director, Office of Sealift Support, MAR-630, Room 7307, Maritime Administration, 400 Seventh Street, SW., Washington, DC 20590, telephone number: 202-366-2323 or fax 202-493-2180. Comments and questions about the request listed below should be directed to the Office of Information and Regulatory Affairs, Attn: OMB Desk Officer for the Department of Transportation, Office of Management and Budget, Room 10102, Washington, DC 20503.

Agency: Maritime Administration.

Date: Comments must be submitted on or before June 12, 2000.

Title: Evaluation of the Maritime Security Program (MSP) and the Voluntary Intermodal Sealift Agreement (VISA) Program.

OMB Number: 2133-New.

Frequency: One-Time.

Affected Public: Vessel Operators, Shippers, Maritime Labor Entities, DOD and other Federal agencies and affected parties in the maritime and transportation industries.

Number of Respondents: 20 Respondents.

Estimated Time Per Respondent: 1 Hour.

Total Burden Hours: 20 Hours.

Summary: MARAD is conducting a program evaluation of the MSP and VISA programs and seeks to collect empirical information from various maritime- and transportation-related entities and other Federal agencies relating to the impact of the MSP and the VISA programs on DOD sealift capability and the U.S. merchant fleet. The evaluation seeks to determine the contribution of the MSP/VISA to the achievement of DOT's and MARAD's national security goals. This evaluation is part of DOT's implementation of the Government Performance and Results Act (GRPA). The information received will be used by MARAD personnel as part of the evaluation to identify and evaluate the causal relationship between MSP/VISA and the DOT/MARAD national security goals.

Burden Statement: According to the PRA, persons are not required to respond to a collection of information unless it displays a valid OMB control number. Note that this information collection has not yet received an OMB control number. It is estimated that the time required to complete this information collection averages approximately 1 hour per response, including the time to review instructions, search existing data resources, gather the data needed, and complete the information collection.

Dated: May 16, 2000.
Joel C. Richard,
Secretary, Maritime Administration.

[FR Doc. 00-12875 Filed 5-22-00; 8:45 am]

BILLING CODE 4910-81-P